DEPARTMENT OF HEALTH AND HUMAN SERVICES

Centers for Disease Control and Prevention

[60 Day-14-0636]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-7570 and send comments to LeRoy Richardson, 1600 Clifton Road, MS-D74, Atlanta, GA 30333 or send an email to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project: Centers for Disease Control and Prevention (CDC) Secure Public Health Emergency Response Communications Network (Epi-X) (OMB Control No. 0920-0636, exp. 5/31/2014)—Revision—Office of Public Health Preparedness and Response (OPHPR), Centers for Disease Control and Prevention (CDC).

Background and Brief Description

From 2009-2012, CDC conducted incident specific, public health emergency response operations on average of six public health incidents a year with an average emergency response length of 50 days for each incident. The effectiveness and efficiency of CDC's response to any public health incident depends on information at the agency's disposal to characterize and monitor the incident, make timely decisions, and take appropriate actions to prevent or reduce the impact of the incident.

Available information in anticipation of, during and following public health incident responses is often incomplete, is not easily validated by state and local health authorities, and is sometimes conflicting. This lack of reliable information often creates a high level of uncertainty with potential negative impacts on public health response operations. Secure communications with CDC's state, local, territorial, and tribal public health partners is essential to resolve conflicting information, validate incident status, and establish and maintain situational awareness. Reliable, secure communications are essential for the agency to gain and maintain accurate situational awareness, make informed decisions, and to respond in the most appropriate manner possible in order to minimize the impact of an incident on the public health of the United States.

This generic Information Collection Request (ICR) is being revised to: (1) Remove verbiage limiting data collection to activation of the Incident Management Structure, (2) broaden categories under which data may be collected to increase its utilization, and (3) provide clarity regarding the data elements.

(Epi-X) is CDC's Web-based communication system for securely communicating in immediate anticipation of, during and following public health emergencies that have multi-jurisdictional impacts and implications. The incidents of September 11, 2001 illustrated the need for an encrypted and secure communications system that would permit CDC to communicate urgently with partners at the state and local levels, and to notify them 24/7, when necessary. Similarly, Epi-X was specifically designed to provide public health decision-makers at the state and local levels a secure, reliable tool for communicating sensitive, unusual, or urgent public health incidents to neighboring jurisdictions as well as to CDC.

CDC has recognized a need to expand the use of Epi-X to collect specific response related information in anticipation of, during and following public health emergencies. Proposed data collection instruments under this generic ICR will be designed to ensure ready access to public health and disease epidemiology information.

Authorized officials from state and local health departments affected by the public health incident will be informed of this data collection first through an Epi-X Facilitator, who will work closely with Epi-X program staff and the Epi-X Information Collection Request Liaison to ensure that Epi-X incident specific information collections are understood. The survey instruments will contain specific questions relevant to the current and ongoing public health incident and response activities.

Respondents will receive the survey instrument(s) as an official CDC email, which is clearly labeled, “Epi-X Emergency Public Health Incident Information Request.” The email message will be accompanied by a link to an Epi-X Forum discussion Web page. Respondents can provide their answers to the survey questions by posting information within the discussion. The total estimated burden for the generic information collection is 73,200 hours for three years.

There are no costs to respondents except their time.

Estimated Annualized Burden Hours
Type of respondent | Form name | Number of respondents | Number responses per respondent | Average burden per response (in hours) | Total burden hours
State Epidemiologists | Epi-X Emergency Public Health Incident Information Request | 50 | 104 | 1 | 5,200
County Health Officials | Epi-X Emergency Public Health Incident Information Request | 1,600 | 12 | 1 | 19,200
Total |  |  |  |  | 24,400

LeRoy Richardson,
Chief, Information Collection Review Office, Office of Scientific Integrity, Office of the Associate Director for Science, Office of the Director, Centers for Disease Control and Prevention.

[FR Doc. 2013-27485 Filed 11-15-13; 8:45 am]

BILLING CODE 4163-18-P